AGENCY FOR INTERNATIONAL DEVELOPMENT

Information Collection; Safeguarding Against Exploitation, Sexual Abuse, Child Abuse, and Neglect

AGENCY: U.S. Agency for International Development.

ACTION: Notice and request for comments.

SUMMARY: U.S. Agency for International Development (USAID), as part of its continuing effort to reduce paperwork and respondent burden, invites the general public and other Federal agencies to take this opportunity to comment on the following information collection, as required by the Paperwork Reduction Act of 1995. Comments are requested concerning whether the proposed collection of information is necessary for sustaining USAID-funded programming; the accuracy of USAID's estimate of the burden of the proposed collection of information; ways to enhance the quality, utility, and clarity of the information to be collected; and ways to minimize the burden of the collection of information on respondents. This notice provides 60 days for public comment preceding submission of the collection to OMB.

DATES: Comments must be received no later than October 12, 2021.

ADDRESSES: USAID invites interested persons to submit comments on this collection through the following methods:

1. Web: Through the Federal eRulemaking Portal at http://www.regulations.gov. This website provides instructions and includes the ability to type short comments directly into the comment field or attach a file for lengthier comments.

2. Email: For comments sent via email, please address them to aapsm@usaid.gov and cite OMB Control Number XXXX-XXXX Safeguarding Against Exploitation, Sexual Abuse, Child Abuse, and Neglect in the subject line of the email. Email submissions must be received before the close of the comment period.

FOR FURTHER INFORMATION CONTACT: Keetah Salazar-Thompson via email to aapsm@usaid.gov.

Instructions: Comments received generally will be posted without change to http://www.regulations.gov, including any personal and/or business confidential information provided.

SUPPLEMENTARY INFORMATION:

A. Need and Uses

The purpose of this collection is to enable the U.S. Agency for International Development to respond to allegations of exploitation, sexual abuse, child abuse, and neglect and institute appropriate standards of behavior. Submissions will be required from Recipients to comply with pending award requirements to safeguard against exploitation, sexual abuse, child abuse, and neglect in USAID-funded programming. Information submitted by Recipients as part of this collection will be presumed to be confidential. USAID takes the protection of personally identifiable information (PII) seriously and takes precautions to ensure the confidentiality and security of PII, consistent with USAID's Automated Directives System (ADS) Chapter 508.

Notification. A pending standard provision for assistance awards will require Recipients to immediately notify, in writing, the Agreement Officer and the USAID Office of the Inspector General of—

(1) Any credible information it receives from any source (including host country law enforcement) that alleges the Recipient or subrecipient, or personnel, invitee, or agent of the Recipient or a subrecipient has engaged in or tolerated exploitation, sexual abuse, child abuse, or neglect.

(2) Any actions planned or taken against a subrecipient, personnel, invitee, or agent of the Recipient or a subrecipient pursuant to this provision.

(3) Any actions planned or taken by the Recipient or subrecipient to assess, address, or mitigate factors that contributed to the incident occurring.

Compliance Plan. If the estimated value of services required to be performed under the award outside the United States exceeds $500,000, the Recipients will maintain a “Safeguarding Against Exploitation, Sexual Abuse, Child Abuse, and Neglect Compliance Plan,” either in conjunction with or separate from the Trafficking in Persons Compliance Plan, that details risk analysis and mitigation measures that will be implemented during the course of the award to prevent and address exploitation, sexual abuse, child abuse, and neglect, consistent with the minimum set of policies and internal controls necessary to prevent, detect, address, and respond to allegations of exploitation, sexual abuse, child abuse, and neglect, and take appropriate action against, personnel, invitees, subrecipients, and agents that commit exploitation, sexual abuse, child abuse, or neglect or those who fail to take reasonable steps to prevent it. The Recipient's compliance plan must be appropriate to the size and complexity of the award and to the nature and scope of the activities, including the particular risks presented by the operating context and the assistance, services or supplies provided. Recipients will be required to provide the compliance plan to the Agreement Officer upon request. The plan must include, at a minimum, the following:

(a) An awareness program to inform its personnel, invitees, or agents about USAID's zero tolerance policy for inaction regarding exploitation, sexual abuse, child abuse, and neglect and the minimum set of policies and internal controls necessary to prevent, detect, address, and resolve allegations of exploitation, sexual abuse, child abuse, and neglect, and take appropriate action against subrecipients, personnel, invitees, and agents that commit exploitation, sexual abuse, child abuse, or neglect or those who fail to take reasonable steps to prevent it, including the activities prohibited and the action that will be taken in response to violations;

(b) A description of how project beneficiaries are made aware that engaging in or tolerating exploitation, sexual abuse, child abuse, and neglect is prohibited, the Recipient's survivor-centered approach for response, and how beneficiaries can report allegations of exploitation, sexual abuse, child abuse, and neglect;

(c) Accessible reporting processes for anyone to report, without fear of retaliation, exploitation, sexual abuse, child abuse, and neglect; and

(d) Procedures for the Recipient to prevent any of its personnel, invitees, or agents or subrecipient at any tier and at any dollar value from engaging in or tolerating exploitation, sexual abuse, child abuse, and neglect. The Recipient must also have procedures to monitor, detect, and terminate, or take any other actions as may be appropriate, for any of its personnel, invitees, or agents, subrecipients or subrecipient personnel that have engaged in such activities.

B. Annual Burden

There will be a small, but measurable reporting burden for the notification of any credible information of exploitation, sexual abuse, child abuse, or neglect and any actions taken in response by any Recipient. Information in the notifications should include: The award title and number, the location of the program, name of the organization, a point of contact, the type of allegation, and the position(s) of those involved, and if beneficiaries or minors were involved. The notification may also identify any actions taken to investigate or respond to the allegation, including referral to local authorities. If known or available, next steps to address the perpetrator and/or the survivor's and whistleblower's safety, resources and information available to the survivor, and any established organizational procedures or framework to respond may also be provided. The notifications should include: Any interim or final measures taken or planned to ensure accountability of the alleged perpetrator, as well as protective measures or reforms, such as changes to applicable policies and procedures, in order to assess, address, or mitigate factors that contributed to the incident. USAID expects reporting to increase as awareness for this requirement increases in the short-term. Therefore, the annual reporting burden for notification to USAID is estimated as follows:

Respondents: 253.

Responses per respondent: 2.

Preparation hours per response: 4 hours.

Total response burden hours: 2,024.

Public reporting and recordkeeping burden for this collection of information is estimated to average 24 hours to prepare a compliance plan, including the time for reviewing instructions, searching existing data sources, gathering and maintaining the data needed, and completing and reviewing the collection of information. The number below includes all grants and estimated subawards over $500,000 required to be performed outside the United States.

The annual recordkeeping burden for the compliance plan is estimated as follows:

Recordkeepers: 2,365.

Records per recordkeeper: 1.

Preparation hours per response: 24.

Total recordkeeping burden hours: 56,760.

For Recipients that meet the $500,000 threshold to maintain a compliance plan, there will be a small but measurable reporting burden for submission of that compliance plan, but only when it is requested by the Agreement Officer. We anticipate that requests to submit the compliance plan will only occur in circumstances where the Agreement Officer has reason to believe that there may be exploitation, sexual abuse, child abuse, or neglect in USAID funded programming. Therefore, the annual reporting burden for submission of the compliance plan to USAID is estimated as follows:

Respondents: 200.

Responses per respondent: 1.

Preparation hours per response: 1.

Total response burden hours: 200.

Keetah Salazar-Thompson,
Coordinator, Action Alliance for Preventing Sexual Misconduct, U.S. Agency for International Development.

[FR Doc. 2021-17340 Filed 8-12-21; 8:45 am]

BILLING CODE 6116-02-P